POSTAL SERVICE

Product Change—First-Class Package Service Negotiated Service Agreement

AGENCY: Postal Service™.

ACTION: Notice.

SUMMARY: The Postal Service gives notice of filing a request with the Postal Regulatory Commission to add a domestic shipping services contract to the list of Negotiated Service Agreements in the Mail Classification Schedule's Competitive Products List.

DATES: Effective date: November 27, 2012.

FOR FURTHER INFORMATION CONTACT: Elizabeth A. Reed, 202-268-3179.

SUPPLEMENTARY INFORMATION: The United States Postal Service® hereby gives notice that, pursuant to 39 U.S.C. 3642 and 3632(b)(3), on November 16, 2012, it filed with the Postal Regulatory Commission a Request of the United States Postal Service to Add First-Class Package Service Contract 27 to Competitive Product List. Documents are available at www.prc.gov, Docket Nos. MC2013-17, CP2013-16.

Stanley F. Mires,
Attorney, Legal Policy & Legislative Advice.

[FR Doc. 2012-28672 Filed 11-26-12; 8:45 am]

BILLING CODE 7710-12-P